INTERNATIONAL TRADE COMMISSION

[Investigation No. 337-TA-1436]

Certain Shapewear Garments; Notice of a Commission Determination Not To Review an Initial Determination Terminating the Investigation Based on Consent Order; Termination of Investigation

AGENCY: U.S. International Trade Commission.

ACTION: Notice.

SUMMARY: Notice is hereby given that the U.S. International Trade Commission has determined not to review an initial determination (“ID”) (Order No. 21) issued by the presiding administrative law judge (“ALJ”) granting a joint motion to terminate the above-captioned investigation based on a settlement agreement, consent order stipulation, and consent order. A consent order is issued to the remaining respondent Honeylove Sculptwear, Inc. of Los Angeles, CA (“Honeylove”). The investigation is terminated.

FOR FURTHER INFORMATION CONTACT: Paul Lall, Office of the General Counsel, U.S. International Trade Commission, 500 E Street SW, Washington, DC 20436, telephone (202) 205-2043. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On February 6, 2025, the Commission instituted this investigation based on a complaint filed on behalf of Spanx, LLC (“Spanx”) of Atlanta, Georgia. 90 FR 9083-84 (Feb. 6, 2025). The complaint alleges violations of section 337 of the Tariff Act of 1930, as amended, 19 U.S.C. 1337 (“Section 337”), based upon the importation into the United States, the sale for importation, or sale within the United States after importation of certain shapewear garments by reason of the infringement of certain claims of U.S. Patent Nos. 9,179,713; 9,930,916; 10,455,866; D707,920 (“the '920 patent”); D796,780; and D796,784 (“the '784 patent”). Id. at 9083. The Commission's notice of investigation named the following respondents: (1) Honeylove; (2) Guangzhoushi Chiping Dianzi Maoyi Co. Ltd. of Guangzhou, China; (3) Daerwene Inc. of Boulder, CO; (4) Guangzhoushi Cedong Shangmao Youxiangongsi of Guangzhou, China; (5) Bingrong Co., Ltd. of Shenzhen, China; and (6) Dolce Vita Intimates LLC of Harrison, NJ. Id. at 9084. The Office of Unfair Import Investigations (“OUII”) was also named as a party in this investigation. Id.

On April 1, 2025, the Commission terminated this investigation in part based on withdrawal of the complaint with respect to (1) all allegations against respondents Guangzhoushi Chiping Dianzi Maoyi Co. Ltd., Daerwene Inc., Guangzhoushi Cedong Shangmao Youxiangongsi, Bingrong Co., Ltd., and Dolce Vita Intimates LLC; and (2) allegations based on the '784 and '920 patents brought against respondent Honeylove. See Order No. 6 (Mar. 10, 2025), unreviewed by Comm'n Notice (Apr. 1, 2025).

On August 12, 2025, Spanx and Honeylove, the only remaining respondent, filed a joint motion to terminate this investigation based on a consent order stipulation and proposed consent order. On August 22, 2025, OUII filed a response supporting the motion.

On August 28, 2025, the presiding ALJ issued the subject ID (Order No. 21) granting the joint motion pursuant to Commission Rule 210.21 (19 CFR 210.21). ID at 2. The ID finds that the joint motion includes the statement that “there are no other agreements, written or oral, express or implied between the parties concerning the subject matter of the investigation.” Id. The ID finds that the motion attaches a consent order stipulation that complies with Commission Rule 210.21(c)(3) (19 CFR 210.21(c)(3)) and a consent order that complies with Commission Rule 210.21(c)(4) (19 CFR 210.21(c)(4)). Id. The ID also finds that “there is no evidence indicating that terminating this investigation based on the settlement agreement and consent order would be contrary to the public interest.” Id. at 3.

No party filed a petition for review of the subject ID.

The Commission has determined not to review the subject ID (Order No. 21). The investigation is terminated in its entirety based on a consent order issued herewith to the remaining respondent Honeylove.

The Commission vote for this determination took place on September 22, 2025.

The authority for the Commission's determination is contained in section 337 of the Tariff Act of 1930, as amended (19 U.S.C. 1337), and in Part 210 of the Commission's Rules of Practice and Procedure (19 CFR part 210).

By order of the Commission.
Issued: September 22, 2025.
Sharon Bellamy,
Supervisory Hearings and Information Officer.

[FR Doc. 2025-18495 Filed 9-23-25; 8:45 am]

BILLING CODE 7020-02-P